DEPARTMENT OF COMMERCE

National Oceanic and Atmospheric Administration

RIN 0648-XA907

Endangered and Threatened Species; Recovery Plan Southern Oregon/Northern California Coast Coho Salmon Evolutionarily Significant Unit

AGENCY: National Marine Fisheries Service (NMFS), National Oceanic and Atmospheric Administration (NOAA), Commerce.

ACTION: Notice of availability; request for comments.

SUMMARY: NMFS announces the availability for public review of the draft Recovery Plan (Plan) for the Southern Oregon/Northern California Coast (SONCC) Coho Salmon (Oncorhynchus kisutch) Evolutionarily Significant Unit (ESU). NMFS is soliciting review and comment from the public and all interested parties on the Plan, and will consider all substantive comments received during the review period before submitting the Plan for final approval. In addition, public meetings will be announced as opportunities for providing comments on the Draft Plan (dates to be determined).

DATES: Comments must be received no later than 5 p.m. Pacific daylight time on March 5, 2012. NMFS will accept anonymous comments (enter N/A in the required fields, if you wish to remain anonymous). You may submit attachments to electronic comments in Microsoft Word, Excel, or Adobe PDF file formats only.

ADDRESSES: You may submit comments by any of the following methods:

• Via email: SONCC.Recovery@noaa.gov (No files larger than 5MB can be accepted).

• Via U.S. Mail: Julie Weeder, National Marine Fisheries Service, 1655 Heindon Road, Arcata, CA 95521, Attn: Recovery Coordinator/SONCC Coho Salmon Public Draft Recovery Plan Comments.

• Hand delivered: National Marine Fisheries Service, 1655 Heindon Road, Arcata, CA 95521, Attn: Recovery Coordinator/SONCC Coho Salmon Public Draft Recovery Plan Comments. Business hours are 8 a.m. to 4:30 p.m. Monday through Friday, except Federal holidays.

• Via fax: (707) 825-4840. Please include the following on the cover page of the fax: “Attn: Recovery Coordinator/SONCC Coho Salmon Public Draft Recovery Plan Comments.”

FOR FURTHER INFORMATION CONTACT: Julie Weeder ((707) 825-5168), email julie.weeder@noaa.gov.

SUPPLEMENTARY INFORMATION: NMFS is charged with the recovery of Pacific salmon and steelhead species listed under the Endangered Species Act (ESA). Recovery means that listed species and their ecosystems are restored, and their future secured, so that the protections of the ESA are no longer necessary. The ESA specifies that recovery plans must include: (1) A description of management actions necessary to achieve the plan's goals for the conservation and survival of the species; (2) objective, measurable criteria which, when met, would result in the species being removed from the list; and (3) estimates of time and costs required to achieve the plan's goal and the intermediate steps towards that goal. Section 4(f) of the ESA, as amended in 1988, requires that public notice and an opportunity for public review and comment be provided during recovery plan development. NMFS is hereby soliciting relevant information on SONCC Coho Salmon ESU populations and their freshwater/marine habitats. In addition, NMFS is soliciting comment on the contents of the proposed recovery plan.

Persons wishing to review the Draft Plan can obtain an electronic copy (i.e., CD ROM) from Ms. Cynthia Anderson by calling (707) 825-5162 or by emailing a request to Cynthia.Anderson@noaa.gov with the subject line “CD ROM Request for SONCC Coho Salmon Draft Recovery Plan.” Electronic copies of the Draft Plan are also available on line on the following NMFS Web site: http://swr.nmfs.noaa.gov/recovery.

Public Meetings

Public meetings are planned. Information on locations, dates, and times will be posted on the Web site listed above.

Authority: 16 U.S.C. 1531 et seq.

Dated: December 29, 2011.
Susan Pultz,
Acting Chief, Endangered Species Division, Office of Protected Resources, National Marine Fisheries Service.

[FR Doc. 2011-33850 Filed 1-4-12; 8:45 am]

BILLING CODE 3510-22-P